SURFACE TRANSPORTATION BOARD

[Docket No. FD 36350]

Vermilion Valley Railroad Company—Lease and Operation Exemption—CSX Transportation, Inc.

Vermilion Valley Railroad Company (VVRC), a Class III railroad, has filed a verified notice of exemption under 49 CFR 1150.41 to lease from CSX Transportation, Inc. (CSXT), and operate a line of railroad between approximately CSXT milepost QSO 5.2 at or near Valuation Station 11606+40 and CSXT milepost QSO 3.3 at or near the switch to the existing coal loop track, near Pan, Ill., a distance of approximately 1.9 miles (the Line). VVRC states that the Line is a part of CSXT's Olin Secondary of the Woodland Subdivision.

VVRC is currently the operator of a line of railroad in Indiana that connects to the Line at the Indiana/Illinois state line. See Vermilion Valley R.R.—Operation Exemption—FNG Logistics Co., FD 34340 (STB served May 16, 2003). According to VVRC, it currently uses the Line for interchange with CSXT, but VVRC and CSXT are now entering into a land and rail assets lease agreement under which VVRC will lease and operate over the Line as a common carrier. VVRC certifies that its proposed acquisition does not involve an interchange commitment.

VVRC certifies that its projected annual revenues as a result of the proposed transaction will not exceed $5 million and that the transaction will not result in the creation of a Class II or Class I rail carrier.

This transaction may be consummated on or after November 2, 2019 (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 25, 2019 (at least seven days before the exemption becomes effective).

All pleadings, referring to Docket No. FD 36350, must be filed with the Surface Transportation Board either via e-filing or in writing addressed to 395 E Street SW, Washington, DC 20423-0001. In addition, a copy of each pleading must be served on VVRC's representatives: Eric M. Hocky, Clark Hill PLC, Two Commerce Square, 2001 Market Street, Suite 2620, Philadelphia, PA 19103; and Justin J. Marks, Clark Hill PLC, 1001 Pennsylvania Avenue NW, Suite 1300 South, Washington, DC 20004.

According to VVRC, this action is categorically excluded from environmental review under 49 CFR 1105.7(e) and from historic preservation reporting requirements under 49 CFR 1105.8(b).

Board decisions and notices are available at www.stb.gov.

Decided: October 10, 2019.
By the Board, Allison C. Davis, Director, Office of Proceedings.
Kenyatta Clay,
Clearance Clerk.

[FR Doc. 2019-22716 Filed 10-17-19; 8:45 am]

BILLING CODE 4915-01-P